FEDERAL TRADE COMMISSION

Privacy Act of 1974; System of Records

AGENCY: Federal Trade Commission (FTC).

ACTION: Notice of modified systems of records.

SUMMARY: The FTC is making technical revisions to several of the notices that it has published under the Privacy Act of 1974 to describe its systems of records. This action is intended to make these notices clearer, more accurate, and up-to-date.

DATES: This notice shall become final and effective on April 19, 2019.

FOR FURTHER INFORMATION CONTACT: G. Richard Gold and Alex Tang, Attorneys, Office of the General Counsel, FTC, 600 Pennsylvania Avenue NW, Washington, DC 20580, (202) 326-2424.

SUPPLEMENTARY INFORMATION: To inform the public, the FTC publishes in the Federal Register and posts on its website a “system of records notice” (SORN) for each system of records that the FTC currently maintains within the meaning of the Privacy Act of 1974, as amended, 5 U.S.C. 552a (“Privacy Act” or “Act”). See https://www.ftc.gov/about-ftc/foia/foia-reading-rooms/privacy-act-systems. The Privacy Act protects records about individuals in systems of records collected and maintained by Federal agencies. (A system is not a “system of records” under the Act unless the agency maintains and retrieves records in the system by the relevant individual's name or other personally assigned identifier.) Each Federal agency, including the FTC, must publish a SORN that describes the records maintained in each of its Privacy Act systems, including the categories of individuals that the records in the system are about, where and how the agency maintains these records, and how individuals can find out whether an agency system contains any records about them or request access to such records, if any. The FTC, for example, maintains 40 systems of records under the Act. Some of these systems contain records about the FTC's own employees, such as personnel and payroll files, while other FTC systems contain records about members of the public, such as public comments, consumer complaints, or phone numbers submitted to the FTC's Do Not Call Registry.

The FTC's SORNs discussed in this notice apply only to the FTC's own Privacy Act record systems. They do not cover Privacy Act records that other Federal agencies may collect and maintain in their own systems. Likewise, the FTC's SORNs and the Privacy Act of 1974 do not cover records that private businesses or other non-FTC entities may collect about individuals, which may be covered by other privacy laws.

On June 12, 2008, the FTC republished and updated all of its SORNs, describing all of the agency's systems of records covered by the Privacy Act in a single document for ease of use and reference. See 73 FR 33592. To ensure the SORNs remain accurate, FTC staff reviews each SORN on a periodic basis. As a result of this systematic review, the FTC made revisions to several of its SORNs on April 17, 2009 (74 FR 17863), August 27, 2010 (75 FR 52749), February 23, 2015 (80 FR 9460), November 2, 2017 (82 FR 50871), and November 6, 2018 (83 FR 55541).

Based on a periodic review of its SORNs, the FTC is publishing these additional technical revisions, to ensure that the FTC's SORNs remain clear, accurate, and up-to-date:

• First, the FTC is amending several SORNs to clarify or update information about the applicable records disposition schedules published or approved by the National Archives and Records Administration (NARA), which determine how long agency records in each system should be retained and destroyed.

• Second, the FTC is amending several SORNs applicable to FTC personnel-related records to conform more closely to the related Government-wide SORNs for Federal personnel records published by the Office of Personnel Management (OPM), and to make other technical changes (e.g., updating the official title of the system manager, explaining how individuals may now access certain records online.)

• Third, after consultation with staff at the Office of Management & Budget (OMB), which provides guidance to Federal agencies on complying with the Privacy Act, the FTC is amending the above SORNs to include specific references to the Federal Register notices where the FTC previously published three SORN Appendices applicable to all FTC SORNs. Specifically, these Appendices, which are posted on the FTC's website: List the authorized disclosures and routine uses applicable to all FTC systems of records (Appendix I); how an individual can make a Privacy Act request to determine if the FTC has any records about him or her and, if so, how the individual may request access to or amendment of those records in the FTC's systems (Appendix II); and the location of FTC buildings and offices where the FTC maintains its records subject to the Act (Appendix III).

• Fourth, the FTC is republishing the full text of each of the above SORNs, incorporating the technical amendments, for the convenience of the reader and in accordance with OMB Circular A-108 (2016), which reorganized the format and content for SORNs published by Federal agencies.

The FTC is not substantively adding or amending any routine uses of its Privacy Act system records. Accordingly, the FTC is not required to provide prior public comment or notice to OMB or Congress for these technical amendments, which are final upon publication. See U.S.C. 552a(e)(11) and 552a(r); OMB Circular A-108, supra.

A SORN-by-SORN summary, including a more detailed description of each SORN and how it is being amended, appears below, followed by the full text of the SORNs, as amended.

I. FTC Law Enforcement Systems of Records

FTC-I-7 (Office of Inspector General Investigative Files—FTC). This SORN covers investigatory records in the FTC's Office of Inspector General. The Commission has updated the “retention and disposal” section to cite the FTC's records disposition schedule approved by NARA for the agency's use.

II. Federal Trade Commission Personnel Systems of Records

FTC-II-1 (General Personnel Records—FTC). This SORN covers Official Personnel Folders (OPFs) and the approved electronic equivalent (the electronic OPF or eOPF) and other personnel records that the FTC's Human Capital Management Office (HCMO) maintains about FTC employees. The Office of Personnel Management (OPM) has published a Government-wide SORN that covers this system of records, OPM/GOVT-1 (General Personnel Records). See 71 FR 35341, 35342 (2006). We have revised FTC-II-1 to make it more consistent with OPM's SORN. The Commission has also updated the “retention and disposal” section to cite the applicable General Records Schedule that was recently approved by NARA for government-wide use.

FTC-II-2 (Unofficial Personnel Records—FTC). This SORN covers personnel records maintained outside of the FTC's HCMO by FTC managers about their employees. This system includes employee performance files maintained by managers. OPM has published a Government-wide SORN that covers those records, OPM/GOVT-2 (Employee Performance File System Records). See 71 FR 35341, 35347 (2006). We have revised FTC-II-2 to update the “retention and disposal” section to cite the applicable General Records Schedule that was recently approved by NARA for government-wide use. The Commission is also updating the official title of the FTC system manager.

FTC-II-3 (Workers' Compensation—FTC). This SORN covers FTC records of claims filed under the Federal Employees' Compensation Act (FECA) for injuries sustained on the job by FTC employees. The Commission has updated the “retention and disposal” section to cite the applicable General Records Schedule that was recently approved by NARA for government-wide use. The Commission is also updating the official title of the FTC system manager.

FTC-II-4 (Employment Application-Related Records—FTC). This SORN covers FTC records compiled from or about individuals who have applied for FTC employment, including individual applications, resumes, references or other records submitted for FTC consideration. The Commission has updated the “retention and disposal” section to cite the applicable General Records Schedule that was recently approved by NARA for government-wide use. The Commission is also updating the official title of the FTC system manager. The retrieval of records section of this SORN is also amended to recognize that this system no longer retrieves records by date of birth, social security number, or any type of identification other than an individual's name.

FTC-II-5 (Equal Employment Opportunity Statistical Reporting System—FTC). This SORN covers the confidential FTC personnel database maintained for the FTC's Equal Employment Opportunity (EEO) Office to generate statistical reports and analyses for the FTC's EEO program. The FTC is revising the “records and disposal” section of this SORN to update the reference to the applicable government-wide General Records Schedule.

FTC-II-6 (Discrimination Complaint System—FTC). This SORN covers investigatory files and related documentation generated in EEO pre-complaint counseling and investigations at the FTC. These records also are covered by a Government-wide SORN published by the Equal Employment Opportunity Commission (EEOC), EEOC/GOVT-1 (Equal Employment Opportunity in the Federal Government Complaint and Appeal Records). See 81 FR 81116 (2016). The Commission has updated the “retention and disposal” section to include a reference to the applicable General Records Schedule that was recently approved by NARA for government-wide use.

FTC-II-8 (Employee Adverse Action and Disciplinary Records—FTC). This SORN covers case files and records related to adverse actions and performance-based actions (removal, suspension, reduction-in-grade) against FTC employees. The FTC is revising this SORN to update the “retention and disposal” section to include the applicable General Records Schedule that was recently approved by the NARA for government-wide use. The Commission is also updating the official title of the system manager. The “category of records” section of this SORN is also amended to recognize that this system no longer maintains information about the employee's furlough status.

FTC-II-9 (Claimants Under Federal Tort Claims Act and Military Personnel and Civilian Employees' Claims Act—FTC). This SORN covers records generated by tort claims and other claims filed with the FTC by its employees or others under the named statutes. The FTC is revising this SORN to update the “retention and disposal” section to include the applicable General Records Schedule that was recently approved by the NARA for government-wide use.

FTC-II-12 (e-Train Learning Management System—FTC.). This SORN covers the system used by the FTC's HCMO to track and log requests of FTC employees to attend training courses. The FTC is revising this SORN to update the “retention and disposal” section to cite the applicable General Records Schedule that was recently approved by the NARA for government-wide use. The Commission is also updating the official title of the FTC system manager. The “category of records” section of the SORN is also being amended to recognize that this system no longer maintains information about an employee's sex or race.

III. Federal Trade Commission Financial Systems of Records

FTC-III-1 (Personnel Payroll System—FTC). This SORN, which covers payroll processing records for FTC employees, is being revised to update the “retention and disposal” section to cite the applicable General Records Schedule that was recently approved by the NARA for government-wide use. The Commission is also updating the security classification of the records, the official title of the FTC system manager, the authorities for maintaining the system, and the location of the system.

FTC Systems of Records Notices

In light of the updated SORN template set forth in the newly revised OMB Circular A-108 (2016), the FTC is reprinting the entire text of each amended SORN for the public's benefit, to read as follows:

I. FTC Law Enforcement Systems of Records

* * * * *

SYSTEM NAME AND NUMBER:

Office of Inspector General Investigative Files-FTC (FTC-I-7).

SECURITY CLASSIFICATION:

Unclassified.

SYSTEM LOCATION:

Office of Inspector General (OIG), Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Inspector General, Federal Trade Commission, 600 Pennsylvania Avenue NW, Washington, DC 20580, email: SORNs@ftc.gov.

AUTHORITY FOR MAINTENANCE OF THE SYSTEM:

Inspector General Act Amendments of 1988, Public Law 100-504, amending the Inspector General Act of 1978, Public Law 95-452, 5 U.S.C. app.

PURPOSE(S) OF THE SYSTEM:

To document the conduct and outcome of investigations; to report results of investigations to other components of the FTC or other agencies and authorities for their use in evaluating their programs and imposition of criminal, civil or administrative sanctions; to report the results of investigations to other agencies or other regulatory bodies for an action deemed appropriate and for retaining sufficient information to fulfill reporting requirements; and to maintain records related to the activities of the Office of the Inspector General.

CATEGORIES OF INDIVIDUALS COVERED BY THE SYSTEM:

Subjects of OIG investigations relating to the programs and operations of the Federal Trade Commission. Subject individuals include, but are not limited to, current and former employees; current and former agents or employees of contractors or subcontractors, as well as current and former contractors and subcontractors in their personal capacity, where applicable; and other individuals whose actions affect the FTC, its programs or operations.

CATEGORIES OF RECORDS IN THE SYSTEM:

Correspondence relating to the investigation; internal staff memoranda; copies of subpoenas issued during the investigation, affidavits, statements from witnesses, transcripts of testimony taken in the investigation and accompanying exhibits; documents, records or copies obtained during the investigation; interview notes, documents and records relating to the investigation; opening reports, information or data relating to alleged or suspected criminal, civil or administrative violations or similar wrongdoing by subject individuals and final reports of investigation.

RECORD SOURCE CATEGORIES:

Employees or other individuals on whom the record is maintained, non-target witnesses, FTC and non-FTC records, to the extent necessary to carry out OIG investigations authorized by 5 U.S.C. app.

ROUTINE USES OF RECORDS MAINTAINED IN THE SYSTEM, INCLUDING CATEGORIES OF USERS AND THE PURPOSES OF SUCH USES:

Records in this system may be:

(1) Disclosed to agencies, offices, or establishments of the executive, legislative, or judicial branches of the federal or state government—

(a) Where such agency, office, or establishment has an interest in the individual for employment purposes, including a security clearance or determination as to access to classified information, and needs to evaluate the individual's qualifications, suitability, and loyalty to the United States Government, or

(b) Where such agency, office, or establishment conducts an investigation of the individual for the purposes of granting a security clearance, or for making a determination of qualifications, suitability, or loyalty to the United States Government, or access to classified information or restricted areas, or

(c) Where the records or information in those records are relevant and necessary to a decision with regard to the hiring or retention of an employee or disciplinary or other administrative action concerning an employee, or

(d) Where disclosure is requested in connection with the award of a contract or other determination relating to a government procurement, or the issuance of a license, grant, or other benefit by the requesting agency, to the extent that the record is relevant and necessary to the requesting agency's decision on the matter, including, but not limited to, disclosure to any Federal agency responsible for considering suspension or debarment actions where such record would be germane to a determination of the propriety or necessity of such action, or disclosure to the United States General Accountability Office, the General Services Administration Board of Contract Appeals, or any other federal contract board of appeals in cases relating to an agency procurement;

(2) Disclosed to the Office of Personnel Management, the Office of Government Ethics, the Merit Systems Protection Board, the Office of the Special Counsel, the Equal Employment Opportunity Commission, or the Federal Labor Relations Authority or its General Counsel, of records or portions thereof relevant and necessary to carrying out their authorized functions, such as, but not limited to, rendering advice requested by the OIG, investigations of alleged or prohibited personnel practices (including unfair labor or discriminatory practices), appeals before official agencies, offices, panels or boards, and authorized studies or review of civil service or merit systems or affirmative action programs;

(3) Disclosed to independent auditors or other private firms with which the Office of the Inspector General has contracted to carry out an independent audit or investigation, or to analyze, collate, aggregate or otherwise refine data collected in the system of records, subject to the requirement that such contractors shall maintain Privacy Act safeguards with respect to such records;

(4) Disclosed to a direct recipient of federal funds such as a contractor, where such record reflects serious inadequacies with a recipient's personnel and disclosure of the record is for purposes of permitting a recipient to take corrective action beneficial to the Government;

(5) Disclosed to any official charged with the responsibility to conduct qualitative assessment reviews of internal safeguards and management procedures employed in investigative operations. This disclosure category includes members of the Council of the Inspectors General on Integrity and Efficiency and officials and administrative staff within their investigative chain of command, as well as authorized officials of the Department of Justice and the Federal Bureau of Investigation;

(6) Disclosed to members of the Council of the Inspectors General on Integrity and Efficiency for the preparation of reports to the President and Congress on the activities of the Inspectors General; and

(7) Disclosed to complainants and/or victims to the extent necessary to provide such persons with information and explanations concerning the progress and/or results of the investigation or case arising from the matters of which they complained and/or which they were a victim.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

The FTC maintains system records in various electronic and non-electronic formats and media. The OIG Investigative Files consist of paper records maintained in file folders, cassette tapes and CD-ROMs containing audio recordings of investigative interviews, and data maintained on computer diskettes and hard drives. The folders, cassette tapes, CD-ROMs and diskettes are stored in file cabinets in the OIG. The hard drives are retained in the OIG safe.

POLICIES AND PRACTICES FOR RETRIEVAL OF RECORDS:

The records are retrieved by the name of the subject of the investigation or by a unique control number assigned to each investigation.

POLICIES AND PRACTICES FOR RETENTION AND DISPOSAL OF RECORDS:

Records are retained and disposed of in accordance with Item 3.5 of FTC Records Retention Schedule N1-122-09-1, which was approved by the National Archives and Records Administration.

ADMINISTRATIVE, TECHNICAL, AND PHYSICAL SAFEGUARDS:

Access is restricted to agency personnel or contractors whose responsibilities require access. Paper records are maintained in lockable rooms or file cabinets, which are kept locked during non-duty hours. Records in file folders are retained as long as needed and then destroyed by shredding or burning. Computer disks and CD-ROMs are cleared, retired or destroyed when no longer useful. Entries on electronic media are deleted or erased when no longer needed. To the extent records or portions thereof are incorporated into emails or other electronic communications, access to such electronic records is controlled by “user ID” and password combination and/or other electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

Pursuant to 5 U.S.C. 552a(j)(2), records in this system are exempt from the provisions of 5 U.S.C. 552(a), except subsections (b), (c)(1) and (2), (e)(4)(A) through (F), (e)(6), (7), (9), (10) and (11) and (i) and corresponding provisions of 16 CFR 4.13, to the extent that a record in the system of records was compiled for criminal law enforcement purposes.

Pursuant to 5 U.S.C. 552a(k)(2), the system is exempt from 5 U.S.C. 552a(c)(3), (d), (e)(1), (e)(4)(G), (H) and (I) and (f) and the corresponding provisions of 16 CFR 4.13, to the extent the system of records consists of investigatory material compiled for law enforcement purposes, other than material within the scope of the exemption at 5 U.S.C. 552a(j)(2). See 16 CFR 4.13(m).

HISTORY:

74 FR 17863-17866 (April 17, 2009).

73 FR 33591-33634 (June 12, 2008).

* * * * *

II. Federal Trade Commission Personnel Systems of Records

SYSTEM NAME AND NUMBER:

General Personnel Records—FTC (FTC-II-1).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office, Federal Trade Commission, 600 Pennsylvania Avenue NW, Washington, DC 20580, email: SORNs@ftc.gov.

See OPM/GOVT-1 for information about the system manager and address for that system.

AUTHORITY FOR MAINTENANCE OF THE SYSTEM:

5 U.S.C. 301, 1302, 2951, 3301, 3372, 4118, 8347; Executive Orders 9397, 9830, and 12107; and 5 CFR 293.

PURPOSE(S) OF THE SYSTEM:

The Official Personnel Folder (OPF), its approved electronic equivalent (the electronic OPF or eOPF), and other general personnel records are the official repository of the records, reports of personnel actions, and the documents required in connection with those actions effected during an employee's Federal service. The personnel action reports and other documents, some of which are filed as long term records in the OPF, give legal force and effect to personnel transactions and establish employee rights and benefits under pertinent laws and regulations governing Federal employment.

The OPF, which exists in various approved media, is maintained for the period of the employee's service in the Commission and is then transferred to the National Personnel Records Center for storage or, as appropriate, to the next employing Federal agency. Other records are either retained at the agency for various lengths of time in accordance with National Archives and Records Administration records schedules or destroyed when they have served their purpose or when the employee leaves the agency. They provide the basic source of factual data about a person's Federal employment while in the service and after his or her separation. Records in this system have various uses including: Screening qualifications of employees; determining status, eligibility, and employee's rights and benefits under pertinent laws and regulations governing Federal employment; computing length of service; and for other information needed in providing personnel services. These records and their automated or microformed equivalents may also be used to locate individuals for personnel research.

Temporary documents on the left side of the OPF may lead (or have led) to a formal action, but do not constitute a record of it, nor make a substantial contribution to the employee's long term record.

CATEGORIES OF INDIVIDUALS COVERED BY THE SYSTEM:

Current Federal Trade Commission employees.

CATEGORIES OF RECORDS IN THE SYSTEM:

Each category of records may include identifying information such as name(s), date of birth, home residence, mailing address, Social Security number, and home telephone number. This system includes, but is not limited to, the contents of the Official Personnel Folder (OPF) maintained by the FTC's Human Capital Management Office (HCMO) and described in the United States Office of Personnel Management (OPM) Guide to Personnel Recordkeeping and in OPM's Government-wide system of records notice for this system, OPM/GOVT-1. (Nonduplicative personnel records maintained by FTC employee managers in other FTC offices are covered by FTC-II-2, Unofficial Personnel Records—FTC.) Records in this system (FTC-II-1) include copies of current employees' applications for employment, documentation supporting appointments and awards, benefits records (health insurance, life insurance, retirement information, and Thrift Savings Plan information), investigative process documents, personnel actions, other personnel documents, changes in filing requirements, and training documents.

Other records include:

a. Records reflecting work experience, educational level achieved, specialized education or training obtained outside of Federal service.

b. Records reflecting Federal service and documenting work experience and specialized education or training received while employed. Such records contain information about past and present positions held; grades; salaries; and duty station locations; commendations, awards, or other data reflecting special recognition of an employee's performance; and notices of all personnel actions, such as appointments, transfers, reassignments, details, promotions, demotions, reductions in force, resignations, separations, suspensions, approval of disability retirement applications, retirement and removals.

c. Records relating to participation in the Federal Employees' Group Life Insurance Program and Federal Employees Health Benefits Program.

d. Records relating to an Intergovernmental Personnel Act assignment or Federal-private exchange program.

e. Records relating to participation in an agency Federal Executive or SES Candidate Development Program.

f. Records relating to Government-sponsored training or participation in the agency's Upward Mobility Program or other personnel programs designed to broaden an employee's work experiences and for purposes of advancement (e.g., an administrative intern program).

g. Records connected with the Senior Executive Service (SES), for use in making studies and analyses of the SES, preparing reports, and in making decisions affecting incumbents of these positions, e.g., relating to sabbatical leave programs, training, reassignments, and details, that are perhaps unique to the SES and which may or may not be filed in the employee's OPF. These records may also serve as basis for reports submitted to OMB's Executive Personnel and Management Development Group for purposes of implementing the Office's oversight responsibilities concerning the SES.

h. Records on an employee's activities on behalf of the recognized labor organization representing agency employees, including accounting of official time spent and documentation in support of per diem and travel expenses.

i. To the extent that the records listed here are also maintained in the agency automated personnel or microform records system, those versions of the above records are considered to be covered by this system notice. Any additional copies of these records (excluding performance ratings of record and conduct-related documents maintained by first-line supervisors and managers covered by FTC-II-2) maintained by agencies at field or administrative offices remote from where the original records exist are considered part of this system.

j. Records relating to designations for lump sum death benefits.

k. Records relating to classified information nondisclosure agreements.

l. Records relating to the Thrift Savings Plan (TSP) concerning the starting, changing, or stopping of contributions to the TSP as well as the how the individual wants the investments to be made in the various TSP Funds.

m. Copies of records contained in the Enterprise Human Resources Integration (EHRI) data warehouse (including the Central Employee Record, the Business Intelligence file that provide resources to obtain career summaries, and the electronic Official Personnel Folder (eOPF)) maintained by OPM. These data elements include many of the above records along with additional human resources information such as training, payroll and performance information from other OPM and agency systems of records. A definitive list of EHRI data elements is contained in OPM's Guide to Human Resources Reporting and The Guide to Personnel Data Standards.

n. Emergency contact information for the employee (see, e.g., FTC Form 75), which is kept on the left side of the OPF.

RECORD SOURCE CATEGORIES:

Individual to whom the record applies and agency employees.

ROUTINE USES OF RECORDS MAINTAINED IN THE SYSTEM, INCLUDING CATEGORIES OF USERS AND THE PURPOSES OF SUCH USES:

(1) Performance Related Uses

(a) To disclose information to any source from which additional information is requested (to the extent necessary to identify the individual, inform the source of the purpose(s) of the request, and to identify the type of information requested), where necessary to obtain information relevant to an agency decision concerning the hiring or retention of an employee, the issuance of a security clearance, the conducting of a security or suitability investigation of an individual, the classifying of jobs, the letting of a contract, or the issuance of a license, grant, or other benefit;

(b) To disclose to an agency in the executive, legislative, or judicial branch, or the District of Columbia Government in response to its request, or at the initiation of the agency maintaining the records, information in connection with the hiring of an employee; the issuance of a security clearance; the conducting of a security or suitability investigation of an individual; the classifying of jobs; the letting of a contract; the issuance of a license, grant, or other benefit by the requesting agency; or the lawful statutory, administrative, or investigative purpose of the agency to the extent that the information is relevant and necessary to the requesting agency's decision on the matter;

(c) By the agency or by OPM to locate individuals for personnel research or survey response, and in the production of summary descriptive statistics and analytical studies in support of the function for which the records are collected and maintained, or for related work force studies. While published statistics and studies do not contain individual identifiers, in some instances the selection of elements of data included in the study may be structured in such a way as to make the data individually identifiable by inference;

(d) To provide an official of another Federal agency information needed in the performance of official duties related to reconciling or reconstructing data files, in support of the functions for which the records were collected and maintained;

(e) To disclose information to officials of the Merit Systems Protection Board, including the Office of the Special Counsel, when requested in connection with appeals, special studies of the civil service and other merit systems, review of Office rules and regulations, investigations of alleged or prohibited personnel practices, and such other functions, promulgated in 5 U.S.C. 1205 and 1206, or as may be authorized by law;

(f) To disclose information to the Equal Employment Opportunity Commission when requested in connection with investigations into alleged or possible discrimination practices in the Federal sector, examination of Federal affirmative employment programs, compliance by Federal agencies with the Uniform Guidelines on Employee Selection Procedures, or other functions vested in the Commission by the President's Reorganization Plan No. 1 of 1978;

(g) To disclose to prospective non-Federal employers, the following information about a specifically identified current or former Federal employee:

(i) Tenure of employment;

(ii) Civil service status;

(iii) Length of service in the agency and the Government; and

(iv) When separated, the date and nature of action as shown on the Notification of Personnel Action, Standard Form 50 (or authorized exception);

(h) To consider employees for recognition through quality step increases, and to publicize those granted. This may include disclosure to other public and private organizations, including news media, which grant or publicize employee recognition;

(i) To consider and select employees for incentive awards and other honors and to publicize those granted. This may include disclosure to other public and private organizations, including news media, which grant or publicize employee awards or honors;

(j) To disclose information to any member of the agency's Performance Review Board or other board or panel (e.g., one convened to select or review nominees for awards of merit pay increases), when the member is not an official of the employing agency; information would then be used for the purposes of approving or recommending selection of candidates for executive development of SES candidate programs, issuing a performance appraisal rating, issuing performance awards, nominating for Meritorious and Distinguished Executive ranks, and removal, reduction-in-grade, and other personnel actions based on performance;

(k) By agency officials for purposes of review in connection with appointments, transfers, promotions, reassignments, adverse actions, disciplinary actions, and determinations of the qualifications of an individual;

(l) By the Office of Personnel Management for purposes of making a decision when a Federal employee or former Federal employee is questioning the validity of a specific document in an individual's record; and

(m) As a data source for management information for promotion of summary descriptive statistics and analytical studies in support of the related personnel management functions of human resource studies; may also be utilized to locate specific individuals for personnel research or other personnel management functions;

(2) Training/Education Related Uses

(a) To disclose information to Government training facilities (Federal, State, and local) and to non-Government training facilities (private vendors of training courses or programs, private schools, etc.) for training purposes; and

(b) To disclose information to educational institutions on appointment of a recent graduate to a position in the Federal service, and to provide college and university officials with information about their students working under the Cooperative Education Volunteer Service, or other similar programs where necessary to a student's obtaining credit for the experience gained;

(3) Retirement/Insurance/Health Benefits Related Uses

(a) To disclose information to: The Department of Labor, Department of Veterans Affairs, Social Security Administration, Department of Defense, Federal agencies that have special civilian employee retirement programs; or a national, State, county, municipal, or other publicly recognized charitable or income security administration agency (e.g., State unemployment compensation agencies) where necessary to adjudicate a claim under the retirement, insurance or health benefits programs of the Office of Personnel Management or an agency cited above, or to an agency to conduct an analytical study or audit of benefits being paid under such programs;

(b) To disclose to the Office of Federal Employees Group Life Insurance information necessary to verify election, declination, or waiver of regular and/or optional life insurance coverage or eligibility for payment of a claim for life insurance;

(c) To disclose to health insurance carriers contracting with the Office of Personnel Management to provide a health benefits plan under the Federal Employees Health Benefits Program, information necessary to identify enrollment in a plan, to verify eligibility for payment of a claim for health benefits, or to carry out the coordination or audit of benefit provisions of such contracts;

(d) When an individual to whom a record pertains is mentally incompetent or under other legal disability, information in the individual's record may be disclosed to any person who is responsible for the care of the individual, to the extent necessary to assure payment of benefits to which the individual is entitled;

(e) To disclose to the agency-appointed representative of an employee all notices, determinations, decisions, or other written communications issued to the employee, in connection with an examination ordered by the agency under:

(i) Fitness-for-duty examination procedures; or

(ii) Agency-filed disability retirement procedures;

(f) To disclose to a requesting agency, organization, or individual the home address and other relevant information concerning those individuals who, it is reasonably believed, might have contracted an illness, been exposed to, or suffered from a health hazard while employed in the Federal work force; and

(g) To disclose information to the Department of Defense, National Oceanic and Atmospheric Administration, and the United States Coast Guard needed to effect any adjustments in retired or retained pay required by the dual compensation provisions of 5 U.S.C. 5532;

(4) Labor Relations Related Uses

(a) To disclose information to the Federal Labor Relations Authority (including its General Counsel) when requested in connection with investigation and resolution of allegations of unfair labor practices, in connection with the resolution of exceptions to arbitrator's awards where a question of material fact is raised and matters before the Federal Service Impasses Panel; and

(b) To disclose information to officials of labor organizations recognized under 5 U.S.C. 71 et seq. when relevant and necessary to their duties of exclusive representation concerning personnel policies, practices, and matters affecting working conditions; and

(5) Miscellaneous Uses

(a) To provide data to OPM for inclusion in the automated Center Personnel Data File;

(b) To be disclosed for any other routine use set forth in the Government-wide system of records notice published for this system by OPM, see OPM/GOVT-1, or any successor OPM system notice that may be published for this system (visit www.opm.gov for more information);

(c) To disclose information to a Federal, state, or local agency for determination of an individual's entitlement to benefits in connection with Federal Housing Administration programs; and

(d) To locate individuals for personnel research or survey response, and in the production of summary descriptive statistics and analytical studies in support of the function for which the records are collected and maintained, or for related work force studies. While published statistics and studies do not contain individual identifiers, in some instances, the selection of elements of data included in the study may be structured in such a way as to make the data individually identifiable by inference.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Records may be maintained on standard legal-size and letter-size paper, and in electronic storage media such as personnel system databases and .pdf forms.

POLICIES AND PRACTICES FOR RETRIEVAL OF RECORDS:

Records are indexed by employee name and social security number.

POLICIES AND PRACTICES FOR RETENTION AND DISPOSAL OF RECORDS:

The OPF is maintained for the period of the employee's service in the agency and is then, if in a paper format, transferred to the National Personnel Records Center for storage or, as appropriate, to the next employing Federal agency. If the OPF is maintained in an electronic format, the transfer and storage is in accordance with the OPM-approved electronic system according to the most current version of OPM's Guide to Personnel Recordkeeping. Destruction of the OPF is in accordance with General Records Schedule GRS-2.2, Items 40-41.

When the individual transfers to any Federal agency or to another appointing office, the OPF is sent to that agency or office. All personnel-related medical records are covered by a separate OPM Privacy Act system of records notice, OPM/GOVT-10.

Other records. These records are retained for varying periods of time as set out by GRS-2.2.

ADMINISTRATIVE, TECHNICAL, AND PHYSICAL SAFEGUARDS:

Access is restricted to agency personnel or contractors whose responsibilities require access. Paper records are maintained in lockable rooms or file cabinets. (In addition, FTC HCMO offices are in a locked suite separate from other FTC offices not generally accessible to the public or other FTC staff.) Access to electronic records is controlled by “user ID” and password combinations and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly through their designated FTC HCMO contact or managers, as applicable, and may be required to complete a written request form and to show identification to obtain access to their records. Employees may also access their records directly by utilizing OPM's approved electronic Official Personnel Folder system, using their assigned user ID and password.

Former FTC employees subsequently employed by another Federal agency should contact the personnel office for their current Federal employer. Former employees who have left Federal service and want access to their official personnel records in storage should contact the National Personnel Records Center, 1411 Boulder Boulevard, Valmeyer, IL 62295.

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly through their designated FTC HCMO contact or managers, as applicable, and may be required to complete a written request form and to show identification to obtain access to their records. Employees may also access their records directly by utilizing OPM's approved electronic Official Personnel Folder system, using their assigned user ID and password.

Former FTC employees subsequently employed by another Federal agency should contact the personnel office for their current Federal employer. Former employees who have left Federal service and want access to their official personnel records in storage should contact the National Personnel Records Center, 1411 Boulder Boulevard, Valmeyer, IL 62295.

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly through their designated FTC HCMO contact or managers, as applicable, and may be required to complete a written request form and to show identification to obtain access to their records. Employees may also access their records directly by utilizing OPM's approved electronic Official Personnel Folder system, using their assigned user ID and password.

Former FTC employees subsequently employed by another Federal agency should contact the personnel office for their current Federal employer. Former employees who have left Federal service and want access to their official personnel records in storage should contact the National Personnel Records Center, 1411 Boulder Boulevard, Valmeyer, IL 62295.

EXEMPTIONS PROMULGATED FOR THE SYSTEM:

None.

HISTORY:

80 FR 9460-9465 (February 23, 2015).

74 FR 17863-17866 (April 17, 2009).

73 FR 33591-33634 (June 12, 2008).

SYSTEM NAME AND NUMBER:

Unofficial Personnel Records-FTC (FTC-II-2).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office (HCMO), Federal Trade Commission, 600 Pennsylvania Avenue NW, Washington, DC 20580, email: SORNs@ftc.gov.

See OPM/GOVT-2 for information about the system manager and address for that system.

AUTHORITY FOR MAINTENANCE OF THE SYSTEM:

5 U.S.C. 301, 1104, 3321, 4301-4305; 4311-4315; 5405, 6101-6106; 6301-6326; 6331-6340; 6361-6373; 6381-6387; 6391; 7301-7353; 5 U.S.C. Chapter 75; Executive Order 12107; and 5 CFR 293.

PURPOSE(S) OF THE SYSTEM:

To assist Commission managers and supervisors in making work assignment, evaluation, and other types of decisions related to the employees of the Federal Trade Commission; to assist in evaluating performance, preparing promotion and award recommendations, preparing informal or formal disciplinary actions, approving leave, coordinating schedules, and preparing news releases; to assist supervisors in the interviewing, evaluation, and selection process when filling position vacancies; and to maintain records of those considerations and actions.

CATEGORIES OF INDIVIDUALS COVERED BY THE SYSTEM:

Current and former Commission employees, consultants, and contractors.

CATEGORIES OF RECORDS IN THE SYSTEM:

This system of records contains information or documents about the educational background, employment, and work history of individuals. The types of records maintained vary with each supervisor and Commission unit. Each supervisor may maintain some or all of the following records: Written notes or memoranda on employee conduct and performance (i.e., employee evaluation, employee forms, leave records, work assignments, or disciplinary problems), including performance-related records described in the Government-wide system of records notice published by the Office of Personnel Management (OPM) for this system of records, OPM/GOVT-2, or any successor OPM system notice that may be published for this system. There may be records relating to employee work schedules, consideration given to applicants for positions with the FTC, and “emergency contact” information collected by various offices informally.

RECORD SOURCE CATEGORIES:

Individual to whom the record pertains; individual's supervisors; managers; Performance Review Boards; Executive Resource Boards; and other interested parties.

ROUTINE USES OF RECORDS MAINTAINED IN THE SYSTEM, INCLUDING CATEGORIES OF USERS AND THE PURPOSES OF SUCH USES:

(1) Records identifying the individual's work schedule may be disclosed to that extent and for that purpose to others within or outside the agency;

(2) Records may be referred to the Office of Personnel Management concerning pay benefits, retirement deductions, and other information necessary for OPM to carry out its government-wide personnel management functions; and

(3) Records may also be used or disclosed for any of the purposes or routine uses set forth in the Government-wide systems of records notice published by OPM for this system of records, OPM/GOVT-2, or any successor OPM system notice that may be published for this system. (Visit www.opm.gov for more information.)

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Maintained in file folders, envelopes and in electronic formats.

POLICIES AND PRACTICES FOR RETRIEVAL OF RECORDS:

Indexed by individual's name.

POLICIES AND PRACTICES FOR RETENTION AND DISPOSAL OF RECORDS:

Records are generally retained in accordance with National Archives and Records Administration (NARA) General Records Schedule (GRS) 2.2, items 80 (supervisory personnel files) and 70-73 (employee performance records). A detailed retention schedule for employee performance-related records, which include ratings of record, supporting documentation for those ratings, and any other performance-related material required by agency performance appraisal system, is also set forth in OPM/GOVT-2. In general, supervisory personnel files are destroyed within 1 year after the employee separates or transfers from the agency, and employee performance records that have not been destroyed as obsolete or superseded, or have not been placed in the employee's Official Personnel Folder (OPF), see FTC II-1, are destroyed when they are 4 years old for non-SES appointees, or 5 years old for SES appointments. Where any of these records are needed in connection with an administrative, quasi-judicial or judicial proceeding, they may be retained as authorized by GRS 2.2-2.3.

ADMINISTRATIVE, TECHNICAL, AND PHYSICAL SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly from the manager maintaining the documents. If these documents have become part of a case file, due to an official review or investigation, the employee may request access through the appropriate office conducting the review or investigation (e.g., the Office of Inspector General, General Counsel, Equal Employment Opportunity and Workplace Inclusion, etc.).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly from the manager maintaining the documents. If these documents have become part of a case file, due to an official review or investigation, the employee may request access through the appropriate office conducting the review or investigation (OIG, OGC, EEO, ER/LR, etc.).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may also request access to their records directly from the manager maintaining the documents. If these documents have become part of a case file, due to an official review or investigation, the employee may request access through the appropriate office conducting the review or investigation (OIG, OGC, EEO, ER/LR, etc.).

EXEMPTIONS PROMULGATED FOR THE SYSTEM:

None.

HISTORY:

80 FR 9460-9465 (February 23, 2015).

74 FR 17863-17866 (April 17, 2009).

73 FR 33591-33634 (June 12, 2008).

SYSTEM NAME AND NUMBER:

Workers' Compensation—FTC (FTC-II-3).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office (HCMO), Federal Trade Commission, 600 Pennsylvania Avenue NW, Washington, DC 20580, email: SORNs@ftc.gov.

See DOL/GOVT-1 for information about the system manager and address for that system.

AUTHORITY FOR MAINTENANCE OF THE SYSTEM:

Federal Employees Compensation Act (FECA), 5 U.S.C. 8101 et seq., 20 CFR 1.1 et seq.

PURPOSE(S) OF THE SYSTEM:

To consider claims filed by employees and/or their survivors for compensation under FECA based on work-related injuries, and to maintain records concerning such claims. The FECA establishes the system for processing and adjudicating claims that the Commission employee and/or the Commission and other covered individuals file with DOL's Office of Workers' Compensation Programs, seeking monetary, medical and similar benefits for injuries or deaths sustained by the individual while in the performance of duty. The records maintained in this system are created as a result of and are necessary to this process. The records provide information and verification about the individual's employment-related injury and the resulting disabilities and/or impairments, if any, on which decisions awarding or denying benefits provided under the FECA must be based.

CATEGORIES OF INDIVIDUALS COVERED BY THE SYSTEM:

Individuals (i.e., FTC employees) and/or their survivors who file claims seeking benefits under the Federal Employees' Compensation Act (FECA) for injuries sustained by the individual while in the performance of duty. The FECA applies to all civilian Federal employees, including various classes of persons whom provide or have provided personal service to the government of the United States.

CATEGORIES OF RECORDS IN THE SYSTEM:

This system may contain the following kinds of records: Names; Social Security numbers; reports of injury by the employee and/or the Commission; claim forms filed by or on behalf of injured employees or their survivors seeking benefits under the FECA; forms authorizing medical care and treatment; other medical records and reports; bills and other payment records; compensation payment records; copies of formal orders for or against the payment of benefits; copies of transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to; and information received from various investigative agencies concerning possible violations of Federal civil or criminal law. The system may also contain consumer credit reports on individuals indebted to the United States, information relating to the debtor's assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the employee or beneficiary.

This system includes only claims-related records maintained by the FTC. Claims are transmitted the United States Department of Labor (DOL) for processing and adjudication. Data maintained by DOL by the Government-wide system of records notice published by DOL for its system of records, see DOL/GOVT-1 (Office of Workers' Compensation Programs, Federal Employees' Compensation Act File) or any successor DOL system notice that may be published for that system.

RECORD SOURCE CATEGORIES:

Employee claiming work-related injury; beneficiaries; witnesses; FTC supervisors, managers, and responsible FTC HCMO staff; DOL; suppliers of health care products and services and their agents and representatives, including physicians, hospitals, and clinics; consumer credit reports, etc.

ROUTINE USES OF RECORDS MAINTAINED IN THE SYSTEM, INCLUDING CATEGORIES OF USERS AND THE PURPOSES OF SUCH USES:

Records in this system may be:

(1) Disclosed in response to queries from Department of Labor, Office of Workers Compensation Programs, supervisors and employees about compensation claims; and

(2) Used or disclosed for any purpose or routine use set forth in the system of records notice published by DOL for this system of records, DOL/GOVT-1 (Office of Workers' Compensation Programs, Federal Employees' Compensation Act File), or any successor DOL system notice that may be published for this system.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Maintained in file folders or temporary electronic files.

POLICIES AND PRACTICES FOR RETRIEVAL OF RECORDS:

Indexed by individual's name.

POLICIES AND PRACTICES FOR RETENTION AND DISPOSAL OF RECORDS:

Records are retained and disposed of under the National Archives and Records Administration's General Records Schedule 2.4, items 100-101.

See DOL/GOVT-1 for the retention and disposal schedules that apply to claims files maintained by that agency. In general, all case files and automated data in that system pertaining to a claim are destroyed 15 years after the case file has become inactive. Case files that have been scanned to create electronic copies are destroyed after the copies are verified. Automated data are retained in their most current form only, however, and as information is updated, outdated information is deleted.

ADMINISTRATIVE, TECHNICAL, AND PHYSICAL SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). Current FTC employees may directly access their records via DOL's electronic system, ECOMP (Employees' Compensation Operations & Management Portal). Access to their specific records is controlled by “user ID” and password combination and/or other appropriate electronic access or network controls (e.g., firewalls). See DOL/GOVT-1 for information about the notification, record access and contesting procedures for claims records maintained by DOL.

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). See DOL/GOVT-1 for information about the notification, record access and contesting procedures for claims records maintained by DOL.

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008). See DOL/GOVT-1 for information about the notification, record access and contesting procedures for claims records maintained by DOL.

EXEMPTIONS PROMULGATED FOR THE SYSTEM:

As explained in DOL/GOVT-1, in accordance with 5 U.S.C. 552a(k)(2), investigative materials, if any, in this system of records compiled for law enforcement purposes are exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

HISTORY:

80 FR 9460-9465 (February 23, 2015).

73 FR 33591-33634 (June 12, 2008).

* * * * *

SYSTEM NAME AND NUMBER:

Employment Application-Related Records-FTC (FTC-II-4).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office, Federal Trade Commission, 600 Pennsylvania Avenue NW, Washington, DC 20580.

See OPM/GOVT-5 for information about the system manager and address for OPM's system of records.

AUTHORITY FOR MAINTENANCE OF THE SYSTEM:

Federal Trade Commission Act, 15 U.S.C. 41 et seq.; 5 U.S.C. ch. 33, subch. I; 5 U.S.C. 4103; Executive Order 9397.

PURPOSE(S) OF THE SYSTEM:

To consider individuals who have applied for FTC employment by evaluating and making determinations of their qualifications or ineligibility; to rate and rank applicants for purposes of selecting candidates for employment. As noted in OPM/GOVT-5, records are also maintained and used to help identify training needs and for referral or research purposes.

CATEGORIES OF INDIVIDUALS COVERED BY THE SYSTEM:

Individuals who have applied for employment at the FTC.

CATEGORIES OF RECORDS IN THE SYSTEM:

Applications for employment, correspondence, and other records submitted, generated, or otherwise compiled and maintained by the FTC as part of the recruitment, examination, or placement of individuals seeking FTC employment. Records covered by this system are fully described in the Government-wide system of records notice published by the Office of Personnel Management (OPM) for this system of records, OPM/GOVT-5 (Recruiting, Examining, and Placement Records).

RECORD SOURCE CATEGORIES:

Applicants; OPM; applicants' personal references; FTC contractor's website.

ROUTINE USES OF RECORDS MAINTAINED IN THE SYSTEM, INCLUDING CATEGORIES OF USERS AND THE PURPOSES OF SUCH USES:

See OPM/GOVT-5 for a list of routine uses authorized by OPM for records in this system. Those uses include, for example:

(1) To disclose pertinent information to the appropriate Federal, State, or local agency responsible for investigating, prosecuting, enforcing, or implementing a statute, rule, regulation, or order, when the disclosing agency becomes aware of an indication of a violation or potential violation of civil or criminal law or regulation.

(2) To disclose information to any source from which additional information is requested (to the extent necessary to identify the individual, inform the source of the purposes of the request, and to identify the type of information requested), when necessary to obtain information relevant to an agency decision concerning hiring or retaining an employee, issuing a security clearance, conducting a security or suitability investigation of an individual, classifying positions, letting a contract, or issuing a license, grant or other benefit.

(3) To disclose information to a Federal agency, in response to its request, in connection with hiring or retaining an employee, issuing a security clearance, conducting a security or suitability investigation of an individual, classifying positions, letting a contract, or issuing a license, grant, or other benefit by the requesting agency, to the extent that the information is relevant and necessary to the requesting agency's decision in the matter.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Electronic, paper, or other non-electronic records. The FTC (through an FTC contractor and in conjunction with OPM) uses websites to collect personal data from applicants for electronic management, processing, and storage. These data can also be downloaded and printed out.

POLICIES AND PRACTICES FOR RETRIEVAL OF RECORDS:

By name only.

POLICIES AND PRACTICES FOR RETENTION AND DISPOSAL OF RECORDS:

Records in this system are retained for varying lengths of time pursuant to the National Archives and Records Administration's General Records Schedule 2.1. Job vacancy records in this system are retained for two years after selection certificate is closed or final settlement of any associated litigation, whichever is later, and job applications in this system are retained for one year after date of submission. Interview records related to filling job vacancies are retained two years after case is closed by hire or non-selection, expiration of right to appeal a non-selection, or final settlement of any associated litigation, whichever is later.

ADMINISTRATIVE, TECHNICAL, AND PHYSICAL SAFEGUARDS:

Access is restricted to FTC personnel and contractors whose job duties require such access. Paper records are maintained in lockable cabinets or offices. Burn bags or shredding is used to destroy printouts, correspondence, or other records containing sensitive data. Access to electronic records is protected by “user ID” and password combination and/or other access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

See OPM/GOVT-5 and 5 CFR 297.501. Investigatory materials, if any, relating to eligibility determinations, where disclosure may reveal confidential sources, in this system are exempted under 5 U.S.C. 552a(k)(5).

HISTORY:

80 FR 9460-9465 (February 23, 2015).

73 FR 33591-33634 (June 12, 2008).

* * * * *

SYSTEM NAME AND NUMBER:

Equal Employment Opportunity Statistical Reporting System-FTC (FTC-II-5).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Director, Equal Employment Opportunity Office, Federal Trade Commission, 600 Pennsylvania Avenue NW, Washington, DC 20580, email: SORNs@ftc.gov.

AUTHORITY FOR MAINTENANCE OF THE SYSTEM:

5 U.S.C. 1301, 3301, 7201, 7204; Executive Order 10577; 42 U.S.C. 2000e-16; Public Law 93-112.

PURPOSE(S) OF THE SYSTEM:

To maintain EEO-related data about the FTC workforce; to protect and limit access to such workforce data by collecting and maintaining such data separately from certain other human resources records about employees; to provide the FTC's EEO Office with data necessary to create general statistical analyses and reports.

CATEGORIES OF INDIVIDUALS COVERED BY THE SYSTEM:

FTC employees.

CATEGORIES OF RECORDS IN THE SYSTEM:

Coded minority group designations and other data relevant to equal employment opportunity (EEO) at the FTC; other employee identification data (e.g., position, grade, office or duty station).

RECORD SOURCE CATEGORIES:

Self-identification by employee (e.g., on information collection forms completed by the employee); visual identification of employees or other personal information or knowledge used by FTC Human Resources or other staff for coding EEO-related data into the system; employee identification data from other human resources record systems (e.g., FTC-II-I, General Personnel Records-FTC).

ROUTINE USES OF RECORDS MAINTAINED IN THE SYSTEM, INCLUDING CATEGORIES OF USERS AND THE PURPOSES OF SUCH USES:

Data from system records are disclosed only in aggregate, non-individually identifiable form in analyses and reports generated for use within the FTC and for reporting to Congress, the Office of Management and Budget, the Equal Employment Opportunity Commission, and the Office of Personnel Management, as required by law. For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Data from information collection forms completed by FTC employees are entered into and stored in a structured electronic database maintained on agency servers, with restricted access (see “Safeguards” below). Paper forms are compiled and kept in the FTC's EEO Office.

POLICIES AND PRACTICES FOR RETRIEVAL OF RECORDS:

Indexed by name of individual, name of group, or by cross-reference to title and grade or other human resources data fields or codes.

POLICIES AND PRACTICES FOR RETENTION AND DISPOSAL OF RECORDS:

Records are retained and destroyed in accordance with schedules and guidance issued or approved by the National Archives and Records Administration. See, e.g., General Records Schedule 2.3, item 35 (EEO-related employment statistics), which authorizes disposal after five years.

ADMINISTRATIVE, TECHNICAL, AND PHYSICAL SAFEGUARDS:

Access is restricted to FTC personnel or contractors whose job duties require such access. Initial receipt and handling of information collection forms, as well as entry of data into computerized databases, is limited to authorized FTC individuals. Information collection forms are forwarded to and stored in lockable cabinets and offices within the FTC's EEO Office. Completed forms and system data are stored and maintained separately from other human resources records to prevent access or use by unauthorized individuals. Access to electronic records is controlled by “user ID” and password combination, and may be obtained only by written authorization of the FTC's EEO Director. System database is further protected by other network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

73 FR 33591-33634 (June 12, 2008).

* * * * *

SYSTEM NAME AND NUMBER:

Discrimination Complaint System-FTC (FTC-II-6).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Director, Equal Employment Opportunity Office, Federal Trade Commission, 600 Pennsylvania Avenue NW, Washington, DC 20580, email: SORNs@ftc.gov.

AUTHORITY FOR MAINTENANCE OF THE SYSTEM:

Section 717 of Title VII of the Civil Rights Act of 1964, as amended, 42 U.S.C. 2000e-16; 29 CFR part 1614.

PURPOSE(S) OF THE SYSTEM:

To assist in the consideration given to reviews of potential or alleged violations of equal employment opportunity (EEO) statutes and regulations and to maintain records on pre-complaint and complaint matters relating to those issues; for the purpose of counseling, investigating, and adjudicating such complaints; to resolve issues related to alleged discrimination because of race, color, religion, sex, national origin, age, physical or mental disability, sexual orientation, or status as a parent in connection with EEO matters; to make reports to Office of Management and Budget, Merit Systems Protection Board, and Equal Employment Opportunity Commission. (This system corresponds to EEOC/GOVT-1, Equal Employment Opportunity in the Federal Government Complaint and Appeal Records.)

CATEGORIES OF INDIVIDUALS COVERED BY THE SYSTEM:

Past or present Federal Trade Commission employees and applicants for employment.

CATEGORIES OF RECORDS IN THE SYSTEM:

Complaints, affidavits, supporting documents, memoranda, correspondence, and notes relevant to and compiled during precomplaint and complaint investigations and matters at the FTC; investigatory files and reports incorporating copies of such records.

RECORD SOURCE CATEGORIES:

Individual about whom the record is maintained, affiants, and EEO staff, other personnel records.

ROUTINE USES OF RECORDS MAINTAINED IN THE SYSTEM, INCLUDING CATEGORIES OF USERS AND THE PURPOSES OF SUCH USES:

The system of records notice published for this system by the EEOC (EEO/GOVT-1) sets forth the routine uses (disclosures) of records in this system outside the agency. (For further information, the EEOC's website is www.eeoc.gov.)

In addition, records in this system may be routinely used and/or disclosed:

(1) To the complainant's lawyer or other formally designated representative of the individual, to the extent required by applicable Federal sector equal employment law and regulations. Portions of the investigatory file may be redacted to protect against disclosure outside the agency of information about individuals other than the complainant.

(2) As relevant and necessary in administrative hearings and appeals to which the complainant and the FTC are parties before the EEOC, including any related court litigation or appeals.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Documents consist mainly of paper records; certain records (e.g., draft memoranda, letters, emails) may be generated or maintained electronically.

POLICIES AND PRACTICES FOR RETRIEVAL OF RECORDS:

Indexed by name of the complainant.

POLICIES AND PRACTICES FOR RETENTION AND DISPOSAL OF RECORDS:

Records are retained pursuant to General Records Schedule 2.3 for varying periods of time after resolution of a case; including cases that did not result in an official formal or informal EEO complaint (2 years), cases resolved within the agency that did not go to the formal process stage (3 years), and cases resolved by formal process within the agency, by the Equal Employment Opportunity Commission, or by a U.S. Court (7 years).

ADMINISTRATIVE, TECHNICAL, AND PHYSICAL SAFEGUARDS:

Access is restricted to FTC personnel and contractors whose responsibilities require access. Paper records are maintained in lockable cabinets in the FTC's EEO Office, and access is restricted to FTC's EEO staff and parties concerned in any related proceeding. Access to electronic records is controlled by “user ID” and password combination, and/or other appropriate electronic access and network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

As provided in EEOC/GOVT-1, pursuant to subsection (k)(2) of the Privacy Act, 5 U.S.C. 552a(k)(2), investigatory materials, if any, compiled for law enforcement purposes in this system of records are exempt from subsections (c)(3), (d), (e)(1), (e)(4)(G), (e)(4)(H), (e)(4)(I) and (f) of the Act.

HISTORY:

73 FR 33591-33634 (June 12, 2008).

* * * * *

SYSTEM NAME AND NUMBER:

Employee Adverse Action and Disciplinary Records-FTC. (FTC-II-8).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office, Federal Trade Commission, 600 Pennsylvania Avenue NW, Washington, DC 20580.

AUTHORITY FOR MAINTENANCE OF THE SYSTEM:

5 U.S.C. 4301 et seq.; 5 U.S.C. 4311 et seq.; 5 U.S.C. 7101 et seq.; 5 U.S.C. 7501 et seq.; 5 U.S.C. 7511 et seq.; 5 U.S.C. 7541 et seq.; and 5 CFR parts 293, 315, 432 & 752.

PURPOSE(S) OF THE SYSTEM:

To document proposed and final agency decisions on disciplinary actions, adverse actions, and performance-based actions in order for them to be defensible before third-party review.

CATEGORIES OF INDIVIDUALS COVERED BY THE SYSTEM:

Current or former FTC employees who have been disciplined or had a performance- based action taken against them, or who have a proposed disciplinary or performance-based action against them.

CATEGORIES OF RECORDS IN THE SYSTEM:

Case files and records related to adverse actions and performance-based actions (removal, suspension, reduction-in-grade) against employees. The file can include a copy of the proposed adverse action with supporting documents, statements of witnesses, employee's reply, hearing notices, reports, agency decisions, reversal of action, and appeal records. Other types of records are set out in the Office of Personnel Management (OPM) Privacy Act system of records notice applicable to this system, OPM/GOVT-3 (Records of Adverse Actions, Performance Based Reduction in Grade and Removal Actions, and Termination of Probationers), or any successor system notice for this system.

RECORD SOURCE CATEGORIES:

Individual about whom the records pertain, witnesses, supervisors, program managers, counselors, related correspondence from organizations or persons.

ROUTINE USES OF RECORDS MAINTAINED IN THE SYSTEM, INCLUDING CATEGORIES OF USERS AND THE PURPOSES OF SUCH USES:

Records in this system may be disclosed for any of the routine uses set forth in OPM/GOVT-3.

In addition, records in this system:

(1) Including records of disciplinary actions, adverse actions and performance-based actions, may be disclosed to and used by employee relations specialists or others whose official duties require such information;

(2) Including records of official time used and travel and per diem money spent while attending to union business, may be disclosed to and used by labor relations specialists and others whose official duties require such information. Information in system records may also be disclosed to officials of labor organizations recognized under 5 U.S.C. 7101 et seq. when relevant and necessary to their duties as exclusive representative; and

(3) May be disclosed to the Federal Labor Relations Authority (including its General Counsel) when requested in connection with investigation and resolution of allegations of unfair labor practices, in connection with the resolution of exceptions to arbitrator's awards where a question of material fact is raised and matters before the Federal Service Impasses Panel.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Paper records stored in file folders; temporary electronic files.

POLICIES AND PRACTICES FOR RETRIEVAL OF RECORDS:

Indexed by individual's name.

POLICIES AND PRACTICES FOR RETENTION AND DISPOSAL OF RECORDS:

Records related to adverse actions, performance-based reduction-in-grade and removal actions, and termination of probationers are destroyed seven years after case is closed in accordance with General Records Schedule 2.3, items 60-62, issued by the National Archives and Records Administration. Actions related to labor management relations arbitration are destroyed 5 years after final resolution in accordance with General Records Schedule 2.3, item 52.

ADMINISTRATIVE, TECHNICAL, AND PHYSICAL SAFEGUARDS:

Access is restricted to agency personnel or contractors whose responsibilities require access. Paper records are maintained in lockable rooms or file cabinets. Access to any electronic records is controlled by “user ID” and password combination and/or other appropriate access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

80 FR 9460-9465 (February 23, 2015).

73 FR 33591-33634 (June 12, 2008).

SYSTEM NAME AND NUMBER:

Claimants Under Federal Tort Claims Act and Military Personnel and Civilian Employees' Claims Act-FTC. (FTC-II-9).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Deputy General Counsel for Legal Counsel, Office of the General Counsel, Federal Trade Commission, 600 Pennsylvania Avenue NW, Washington, DC 20580.

Assistant Chief Financial Officer for Financial Systems, Internal Control and Policy, Financial Management Office, Federal Trade Commission, 600 Pennsylvania Avenue NW, 20580.

AUTHORITY FOR MAINTENANCE OF THE SYSTEM:

Federal Tort Claims Act, 28 U.S.C. 1346(b), 28 U.S.C. 2671-2680; Military Personnel and Civilian Employees' Claims Act, 31 U.S.C. 3721.

PURPOSE(S) OF THE SYSTEM:

To consider claims made under the above-cited statutes; to investigate those claims; to determine appropriate responses to those claims; and to maintain records outlining all considerations and actions related to those claims.

CATEGORIES OF INDIVIDUALS COVERED BY THE SYSTEM:

Individuals who have claimed reimbursement from FTC under Federal Tort Claims Act and Military Personnel and Civilian Employees' Claims Act.

CATEGORIES OF RECORDS IN THE SYSTEM:

Personal information relating to incidents in which the FTC may be liable for property damage, loss, or personal injuries; reimbursement applications; internal memoranda; and witness statements.

RECORD SOURCE CATEGORIES:

Individual about whom the record pertains (claimant); FTC employee involved in incident; other FTC employees or other persons having knowledge of the circumstances; official police report (if any); and insurance company representing claimant (if any).

ROUTINE USES OF RECORDS MAINTAINED IN THE SYSTEM, INCLUDING CATEGORIES OF USERS AND THE PURPOSES OF SUCH USES:

Records in this system:

(1) May be referred to Department of Justice, General Services Administration, or other federal agency when the matter comes within the jurisdiction of such agency; and

(2) May be used in discussions and correspondence with insurance companies, with other persons or entities that may be liable, with potential witnesses or others having knowledge of the matter.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Paper records stored in file folders; temporary electronic files.

POLICIES AND PRACTICES FOR RETRIEVAL OF RECORDS:

Indexed by individual's name.

POLICIES AND PRACTICES FOR RETENTION AND DISPOSAL OF RECORDS:

Records are retained for 7 years after the matter has been resolved, and then destroyed, as provided in General Records Schedule 1.1, item 80, issued by the National Archives and Records Administration, except any claims files that are affected by court order or subject to litigation proceedings, which are destroyed when the court order is lifted or the litigation is concluded, or when the files are 7 years, whichever is later.

ADMINISTRATIVE, TECHNICAL, AND PHYSICAL SAFEGUARDS:

Access is restricted to agency personnel or contractors whose responsibilities require access. Paper records are maintained in lockable rooms or file cabinets. Access to electronic records is controlled by “user ID” and password combination and/or other appropriate access or network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

80 FR 9460-9465 (February 23, 2015).

74 FR 17863-17866 (April 17, 2009).

73 FR 33591-33634 (June 12, 2008).

* * * * *

SYSTEM NAME AND NUMBER:

e-Train Learning Management System-FTC (FTC-II-12).

SECURITY CLASSIFICATION:

Unclassified.

SYSTEM LOCATION:

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office (HCMO), Federal Trade Commission, 600 Pennsylvania Avenue NW, Washington, DC 20580, email: SORNs@ftc.gov.

AUTHORITY FOR MAINTENANCE OF THE SYSTEM:

Federal Trade Commission Act, 15 U.S.C. 41 et seq.; 5 U.S.C. ch. 41; 5 CFR 410.701.

PURPOSE(S) OF THE SYSTEM:

To provide information to agency managers necessary to indicate the training that has been requested and provided to individual employees; to determine course offerings and frequency; and to manage the training program administered by the Human Capital Management Office. Since this system is legally part of the OPM's Government-wide system of records notice for this system, OPM/GOVT-1, it is subject to the same purposes set forth for that system by OPM, see OPM/GOVT-1, or any successor OPM system notice that may be published for this system (visit www.opm.gov for more information).

CATEGORIES OF INDIVIDUALS COVERED BY THE SYSTEM:

Individuals who, at the time the records are added to the system, are FTC employees who registered to attend training courses offered by the Human Capital Management Office.

CATEGORIES OF RECORDS IN THE SYSTEM:

Employee social security number, position title, pay plan, series, grade, organizational code, work address, work phone number, supervisor, date of birth, work email address, course number, course title, course date and time, attendance indicator, separation date, etc.

RECORD SOURCE CATEGORIES:

Individual about whom the record is maintained, supervisors, managers, and Human Capital Management Office staff responsible for the training program.

ROUTINE USES OF RECORDS MAINTAINED IN THE SYSTEM, INCLUDING CATEGORIES OF USERS AND THE PURPOSES OF SUCH USES:

Since this system is legally part of the OPM's Government-wide system of records notice for this system, OPM/GOVT-1, it is subject to the same routine uses set forth for that system by OPM, see OPM/GOVT-1, or any successor OPM system notice that may be published for this system (visit www.opm.gov for more information).

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Records are stored in electronic record systems and temporary paper printouts.

POLICIES AND PRACTICES FOR RETRIEVAL OF RECORDS:

Indexed by employee social security number and name.

POLICIES AND PRACTICES FOR RETENTION AND DISPOSAL OF RECORDS:

Employee training records are generally retained according to General Records Schedule (GRS) 2.6, issued by the National Archives and Records Administration.

ADMINISTRATIVE, TECHNICAL, AND PHYSICAL SAFEGUARDS:

Access is restricted to agency personnel or contractors whose responsibilities require access. Paper records are maintained in lockable rooms or file cabinets. Access to electronic records is controlled by “user ID” and password combination and/or other appropriate electronic access and network controls (e.g., firewalls). FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

75 FR 52749-52751 (August 27, 2010).

73 FR 33591-33634 (June 12, 2008).

* * * * *

III. Federal Trade Commission Financial Systems of Records

* * * * *

SYSTEM NAME AND NUMBER:

Personnel Payroll System-FTC. (FTC-III-1).

SECURITY CLASSIFICATION:

Unclassified.

SYSTEM LOCATION:

Federal Personnel Payroll System (FPPS) Management Division, U.S. Department of Interior, Interior Business Center, 7301 West Mansfield Avenue, Denver, CO 80227.

Federal Trade Commission, 600 Pennsylvania Avenue NW, Washington, DC 20580. For other locations where records may be maintained or accessed, see Appendix III (Locations of FTC Buildings and Regional Offices), available on the FTC's website at https://www.ftc.gov/about-ftc/foia/foia-reading-rooms/privacy-act-systems and at 80 FR 9460, 9465 (Feb. 23, 2015).

SYSTEM MANAGER(S):

Chief Human Capital Officer, Human Capital Management Office, Federal Trade Commission, 600 Pennsylvania Avenue NW, Washington, DC 20580, email: SORNs@ftc.gov.

See DOI-85 for the FPPS system manager and address.

AUTHORITY FOR MAINTENANCE OF THE SYSTEM:

Title 5 of the United States Code, Part III, Subparts A-G; 31 U.S.C. 3512; 5 U.S.C. 5101 et seq.; Public Law 81-784, 64 Stat. 832; Office of Management and Budget Circular A-123, “Management's Responsibility for Enterprise Risk Management and Internal Control” (Revised 07/15/2016) and Attachment D, “Compliance with the Federal Financial Management Improvement Act” (09/20/2013).

PURPOSE(S) OF THE SYSTEM:

To maintain, process and/or provide complete, accurate, and prompt: (a) Payment of salary and deductions; (b) payroll information relating to retirement contributions, including the calculation of retirement benefits; (c) generation and maintenance of human resources and payroll records and transactions; (d) interaction of human resources and payroll systems with core financial systems; (e) adequate internal controls to ensure that human resources and payroll systems are operating in accordance with applicable laws and regulations; and (f) information, without extraneous material, to those internal and external to the agency who require the information, including the answering of employees' inquiries regarding their retirement contributions while they are with the agency.

CATEGORIES OF INDIVIDUALS COVERED BY THE SYSTEM:

Current and former Federal Trade Commission employees.

CATEGORIES OF RECORDS IN THE SYSTEM:

Employee name, Social Security number, and organizational code; pay rate and grade, retirement, and location data; length of service; pay, leave, time and attendance, allowances, and cost distribution records; deductions for Medicare or FICA, FEGLI, union dues, taxes, allotments, quarters, charities, health benefits, Thrift Savings Fund contributions, awards, shift schedules, pay differentials, IRS tax lien data, commercial garnishments, child support and/or alimony wage assignments; and related payroll and personnel data. Also included is information on debts owed to the government as a result of overpayment, refunds owed, or a debt referred for collection on a transferred employee.

These records are also covered by the applicable system notice published by the Department of Interior (DOI), DOI-85 (Payroll, Attendance, Retirement, and Leave Records—Interior), and any successor system notice that may be published by DOI for this system.

RECORD SOURCE CATEGORIES:

Individuals on whom the records are maintained, official personnel records of individuals on whom the records are maintained, supervisors, timekeepers, previous employer, and the Internal Revenue Service.

ROUTINE USES OF RECORDS MAINTAINED IN THE SYSTEM, INCLUDING CATEGORIES OF USERS AND THE PURPOSES OF SUCH USES:

Records in this system:

(1) That identify the individual's work schedule may be disclosed to that extent, and for that purpose, to others within or outside the agency;

(2) To the extent they contain information about an individual's unemployment compensation, may be referred to state and local unemployment compensation boards;

(3) To the extent they contain information about employment pay, benefits, retirement deductions, and other information necessary for the Office of Personnel Management (OPM) to carry out its Government-wide personnel management functions, may be referred to OPM for such purposes;

(4) May be referred to OPM upon the individual's retirement, transfer to another Federal agency, or resignation from Federal service; and

(5) May be disclosed for any routine use noted in the Department of Interior (DOI) Privacy Act system of records notice applicable to this system, DOI-85 (Payroll, Attendance, Retirement, and Leave Records—Interior), or any successor system notice for this system.

For other ways that the Privacy Act permits the FTC to use or disclose system records outside the agency, see Appendix I (Authorized Disclosures and Routine Uses Applicable to All FTC Privacy Act Systems of Records), available on the FTC's website at https://www.ftc.gov/about-ftc/foia/foia-reading-rooms/privacy-act-systems and at 83 FR 55541, 55542-55543 (Nov. 6, 2018).

POLICIES AND PRACTICES FOR STORAGE OF RECORDS:

Stored on computer tape at the U.S. Department of Interior, Interior Business Center, which processes employee payroll for the FTC under an interagency agreement. Paper printouts or original input documents may be stored at the FTC in locked file cabinets or as imaged documents on magnetic media at all locations that prepare and input documents and information for data processing.

POLICIES AND PRACTICES FOR RETRIEVAL OF RECORDS:

Indexed by name, Social Security number, and organizational code.

POLICIES AND PRACTICES FOR RETENTION AND DISPOSAL OF RECORDS:

The records in this system have varying retention periods as described in the National Archives and Records Administration's General Records Schedule 2.4 (items 010-050) for agency payroll records. Records are held for length of the service of the employee while he or she is at FTC. Information is forwarded to (a) gaining agency when employee transfers to another Federal agency; or (b) National Archives and Records Administration, National Personnel Records Center when employee separates or retires from the Federal government.

ADMINISTRATIVE, TECHNICAL, AND PHYSICAL SAFEGUARDS:

Access is restricted to agency personnel or contractors whose responsibilities require access. Paper records are maintained in lockable rooms or file cabinets. Access to electronic records is controlled by “user ID” and password combination and/or other appropriate electronic access controls. FTC buildings are guarded and monitored by security personnel, cameras, ID checks, and other physical security measures.

RECORD ACCESS PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

CONTESTING RECORD PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

NOTIFICATION PROCEDURES:

See § 4.13 of the FTC's Rules of Practice, 16 CFR 4.13. For additional guidance, see also Appendix II (How To Make A Privacy Act Request), available on the FTC's website at https://www.ftc.gov/about-ftc/foia/foia-reading-rooms/privacy-act-systems and at 73 FR 33592, 33634 (June 12, 2008).

EXEMPTIONS PROMULGATED FOR THE SYSTEM:

None.

HISTORY:

80 FR 9460-9465 (February 23, 2015).

74 FR 17863-17866 (April 17, 2009).

73 FR 33591-33634 (June 12, 2008).

* * * * *

Heather Hippsley,
Deputy General Counsel.

[FR Doc. 2019-07842 Filed 4-18-19; 8:45 am]

BILLING CODE 6750-01-P